DEPARTMENT OF JUSTICE

Notice of Lodging of Proposed Consent Decree Under the Safe Drinking Water Act

On January 16, 2025, the Department of Justice lodged a proposed consent decree with the United States District Court for the Central District of California in the lawsuit entitled United States v. Sophia Lawson Clark, in her capacity as Administrator of the Estate of Scott Lawson, and Lopez to Lawson, Inc., Civil Action No. 5:23-cv-1650.

This case involves violations of the Safe Drinking Water Act (“SDWA”) at the Oasis Mobile Home Park (the “Park”) located in Thermal, California. The Park has a public water system that relies on groundwater with high levels of naturally occurring arsenic, a carcinogen that is harmful to human health. In August 2023, the United States filed a complaint against the Defendants alleging violations of the Underground Injection Control regulations with respect to the Defendants' wastewater system as provided in section 1421 of the SDWA, 42 U.S.C. 300h, and its implementing regulations at 40 CFR part 144; violations of the United States Environmental Protection Agency's (“EPA”) emergency administrative order under section 1431 of the SDWA, 42 U.S.C. 300i(b), to address deficiencies with the Defendants' public drinking water system; and that the Defendants' public drinking water and wastewater systems presented an imminent and substantial endangerment to the health of its users as provided under section 1431(a) of the SDWA, 42 U.S.C. 300i(a).

Under the Consent Decree, the Defendants shall pay the United States a $50,000 civil penalty. The Consent Decree also requires the Defendants to undertake injunctive relief to achieve consistent SDWA compliance. Once the Defendants have fully addressed the compliance for the drinking water system, they will then begin work on the wastewater system and identify corrective actions that they will then take steps to address through an EPA-approved compliance schedule.

The publication of this notice opens a period for public comment on the consent decree. Comments should be addressed to the Assistant Attorney General, Environment and Natural Resources Division, and should refer to United v. Sophia Lawson Clark, in her capacity as Administrator of the Estate of Scott Lawson, and Lopez to Lawson, Inc., D.J. Ref. No. 90-5-1-1-12437, Case Action No. 23-cv-01650. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the consent decree may be examined and downloaded at this Justice Department website: https://www.justice.gov/enrd/consent-decrees. If you require assistance accessing the consent decree, you may request assistance by email or by mail to the addresses provided above for submitting comments.

Scott Bauer,
Assistant Section Chief, Environmental Enforcement Section, Environment and Natural Resources Division.

[FR Doc. 2025-01555 Filed 1-22-25; 8:45 am]

BILLING CODE 4410-15-P